DEPARTMENT OF ENERGY

Federal Energy Regulatory Commission

[Docket No. PL00-1-000]

Dialog Concerning Natural Gas Transportation; Policies Needed to Facilitate Development of Competitive Natural Gas Markets; Notice Deferring Staff Conference

January 23, 2001.

Take notice that the staff conference on affiliate issues that was to be convened in this proceeding on January 31, 2001 at 1 p.m. will be deferred until March 15, 2001. We are deferring the conference in light of the request for postponement filed by the Edison Electric Institute's Alliance of Energy Suppliers (Alliance) and supported by Reliant Energy Services. As noted in the Alliance's request, a deferral will allow resources to be more effectively applied to ongoing concerns. Deferral of the conference will also allow the Commission and the parties to incorporate winter operating experience in both the gas and electric industries in the discussion. A notice establishing the composition of the panel(s) will be issued in advance of the conference.

For additional information, contact Robert Flanders at (202) 208-2084.

David P. Boergers,
Secretary.

[FR Doc. 01-2484 Filed 1-26-01; 8:45 am]

BILLING CODE 6717-01-M